LEGAL SERVICES CORPORATION

Request for Pre-Application for 2021 Technology Initiative Grants

AGENCY: Legal Services Corporation.

ACTION: Notice.

SUMMARY: The Legal Services Corporation (LSC) issues this notice describing the conditions for submitting a pre-application for 2021 Technology Initiative Grants.

DATES: Pre-applications must be submitted by 11:59 p.m. EDT on Friday, May 14, 2021.

ADDRESSES: Pre-applications must be submitted electronically to https://grantease.lsc.gov.

FOR FURTHER INFORMATION CONTACT: David Bonebrake, Program Counsel, Office of Program Performance, Legal Services Corporation, 3333 K Street NW, Washington, DC 20007; (202) 295-1547 or dbonebrake@lsc.gov.

SUPPLEMENTARY INFORMATION:

I. Introduction

Since 2000, Congress has provided an annual appropriation to LSC to award special funding for “client self-help and information technology” projects. LSC's Technology Initiative Grant (TIG) program funds technology tools that help achieve LSC's goal of increasing the quantity and quality of legal services available to eligible persons. Projects funded under the TIG program develop, test, and replicate innovative technologies that can enable grant recipients and state justice communities to improve low-income persons' access to high-quality legal assistance through an integrated and well-managed technology system.

II. Funding Opportunities Information

A. Eligible Applicants

To be eligible for Technology Initiative Grants, applicants must be current grantees of LSC Basic Field-General, Basic Field-Migrant, or Basic Field-Native American grants. In addition, applicants must receive basic field funding of a least a one-year term, be up to date on reporting on any existing TIG-funded projects, and not have had a previous TIG terminated in the past three years for reporting or other performance issues.

B. Technology Initiative Grant Purpose and Key Goals

Since LSC's TIG program was established in 2000, LSC has made over 775 grants totaling over $73 million. This grant program encourages organizations to use technology in innovative ways to:

1. Effectively and efficiently provide high-quality legal assistance to low-income persons and to promote access to the judicial system through legal information, advice, and representation.

2. Improve service delivery, quality of legal work, and management and administration of grantees.

3. Develop, test, and replicate innovative strategies that can enable grantees and state justice communities to improve clients' access to high-quality legal assistance.

C. Area of Interest for the 2021 TIG Cycle

The TIG program has one area of interest for the 2021 grant cycle: Projects That Enhance Information Security in Legal Services. Organizations operate in an increasingly complex technology environment where there is a significant risk of data breaches and unauthorized access to systems. This area of interest encourages applicants to consider creative and innovative technology solutions that can improve security for one or more legal services organizations. Specifically, LSC is interested in funding three types of security projects:

(1) A national initiative focused on capacity building, security awareness, and general technical assistance for LSC-funded organizations across the United States. This project should include national trainings for program leadership and IT staff, development of model security policies, guidance on security considerations when engaging IT vendors, and broad security notices to the field of LSC grantees on emerging threats and other security considerations. LSC anticipates awarding one large-scale, capacity-building TIG to complete this work at the national level. Applicants should plan on engaging IT security experts to help provide these services to LSC-funded providers across the country.

(2) New and innovative solutions to address information security. These projects will introduce new and innovative approaches to address security challenges. While the TIG program cannot support basic security infrastructure—LSC grantees must use funding from field grants and other sources to cover these critical expenses—it can support new technologies or methods that enhance security for one or more legal services providers. This might include deploying new machine learning technology to prevent phishing and other intrusions or using a cloud or automated service to continually assess overall IT posture. Applicants in this category should explain how they are using new technologies and methods to enhance security and how these innovations would be replicable by other LSC grantees.

(3) Security Assessments in Technology Improvement Projects. Applicants eligible for a Technology Improvement Project can add up to $10,000 to their funding request to ensure that security is adequately evaluated as part of an IT assessment. Please note that Technology Improvement Projects do not require a pre-application—LSC will open the application system for these projects by June 15, 2021.

D. Funding Categories

1. General Technology Initiative Grants

Projects in this category (1) implement new or innovative approaches for using technology in legal services delivery; (2) enhance the effectiveness and efficiency of existing technologies so that they may be better used to increase the quality and quantity of services to clients; or (3) replicate, adapt, or provide added value to the work of prior technology projects. This includes, but is not limited to, the implementation and improvement of tested methodologies and technologies from previous TIG projects. We also encourage replication of proven technologies from non-LSC funded legal aid organizations as well as sectors outside the legal aid community. LSC recommends a minimum amount for funding requests in this category of $40,000, but projects with lower budgets will be considered. There is no maximum amount for TIG funding requests that are within the total appropriation for TIG. All applicants in this category must submit a pre-application according to the process and requirements outlined in this notice.

2. Technology Improvement Projects

LSC recognizes that grantees need sufficient technology infrastructure in place before they can take on a more innovative TIG project, and this grant category is for applicants that need to improve their basic technology infrastructure. Only LSC grantees that have not received a TIG award in the last five years (since 2016) are eligible to apply for a Technology Improvement Project. LSC has increased the maximum amount for funding requests in this category from $25,000 to $35,000 so that applicants can incorporate information security reviews into their assessments.

Please note that Technology Improvement Projects do not require a pre-application. LSC will open the application system and provide guidance for this category by June 15, 2021.

E. Available Funds and Additional Consideration for 2021 Grants

LSC anticipates awarding up to $4,250,000 through TIG grants in 2021. All awards are subject to the availability of appropriated funds and any modifications or additional requirements that may be imposed by law. LSC will not designate fixed or estimated amounts for the two different funding categories and will make grant awards for the two categories within the total amount of funding available.

As mentioned above, proposals focused on innovative solutions for information security challenges will receive additional consideration in the application review process.

F. Grant Terms

Applicants may propose grant terms between 12 and 36 months. LSC may instruct applicants to include additional time to the grant term for evaluation, final reporting, and financial reporting. Budgets submitted should be for the entire grant term.

III. Grant Application Process

A. Technology Initiative Grant (TIG) Application Process

This year, the Technology Initiative Grant (TIG) application process will be administered in LSC's unified grants management system, GrantEase. Applicants must first submit a pre-application (formerly Letter of Intent to Apply for Funding or “LOI”) to LSC in GrantEase by May 14, 2021, at 11:59 p.m. EDT, to be considered for a grant. After review by LSC staff, LSC's president decides which applicants will be asked to submit a full application. Applicants will be notified of approval to submit a full application by mid-June 2021. Full applications are due to LSC in the GrantEase system on August 6, 2021, at 11:59 p.m. EDT. Once received, full applications will undergo a rigorous review by LSC staff. LSC's president makes the final decisions on funding for the Technology Initiative Grant program.

B. Late or Incomplete Applications

LSC may consider a request to submit a pre-application after the deadline, but only if the applicant has submitted an email to techgrants@lsc.gov explaining the circumstances that caused the delay prior to the pre-application deadline. Communication with LSC staff, including assigned program liaisons, is not a substitute for sending a formal request and explanation to techgrants@lsc.gov. At its discretion, LSC may consider incomplete applications. LSC will determine the admissibility of late or incomplete applications on a case-by-case basis.

C. Multiple Pre-Applications

Applicants may submit multiple pre-applications under the same or different funding category. If applying for multiple grants, applicants should submit separate pre-applications for each funding request.

D. Additional Information and Guidelines

Additional guidance and instructions on the pre-application and application processes for Technology Initiative Grants will be available and regularly updated at https://www.lsc.gov/grants-grantee-resources/our-grant-programs/tig.

Dated: April 19, 2021.
Mark Freedman,
Senior Associate General Counsel.

[FR Doc. 2021-08439 Filed 4-27-21; 8:45 am]

BILLING CODE 7050-01-P